COMMISSION ON CIVIL RIGHTS

Notice of Public Meeting of the New Mexico Advisory Committee; Correction

AGENCY: Commission on Civil Rights.

ACTION: Notice; correction to call-in number.

SUMMARY: The Commission on Civil Rights published a notice in the Federal Register on Wednesday, May 27, 2020, concerning a meeting of the New Mexico Advisory Committee. The document contained an incorrect call-in number, which now has changed to a new call-in number.

FOR FURTHER INFORMATION CONTACT: Angelica Trevino, (202) 695-8935, atrevino@usccr.gov.

SUPPLEMENTARY INFORMATION:

Correction

In the Federal Register of Wednesday, May 27, 2020, in FR Doc. 2020-11291, on page 31739, second column of 31739, correct the call-in number to (888) 394-8218.

Dated: June 5, 2020.

David Mussatt,
Supervisory Chief, Regional Programs Unit.

[FR Doc. 2020-12622 Filed 6-10-20; 8:45 am]

BILLING CODE 6335-01-P